NUCLEAR REGULATORY COMMISSION

[Docket Nos. 50-352 and 50-353]

Exelon Generation Company, LLC, Limerick Generating Station, Units 1 and 2; Environmental Assessment and Finding of No Significant Impact

The U.S. Nuclear Regulatory Commission (NRC) is considering issuance of an exemption from Title 10 of the Code of Federal Regulations (10 CFR) part 50, Appendix E, Item IV.F.2. c, for Facility Operating License Nos. NPF-39 and NPF-85, issued to Exelon Generation Company, LLC (Exelon, the licensee), for operation of the Limerick Generating Station, Units 1 and 2, located in Montgomery County, Pennsylvania. Therefore, as required by 10 CFR 51.21, the NRC is issuing this environmental assessment and finding of no significant impact.

Environmental Assessment

Identification of the Proposed Action

The proposed action would allow a one-time exemption from the requirements of 10 CFR Part 50, Appendix E, Item IV.F.2. c, regarding conduct of a full-participation exercise of the offsite emergency plan every 2 years. Under the proposed exemption, the licensee would reschedule the exercise originally scheduled for November 1, 2001, and complete the exercise requirements by March 14, 2002.

The proposed action is in accordance with the licensee's application for an exemption dated October 16, 2001.

The Need for the Proposed Action

Currently under 10 CFR part 50, Appendix E, Item IV.F.2. c, each licensee at each site is required to conduct a full-participation exercise of its offsite emergency plan every 2 years. Federal agencies, such as the Federal Emergency Management Agency, observe these exercises and evaluate the performance of the licensee, state, and local authorities having a role under the emergency plan.

The licensee had initially planned to conduct an exercise of its offsite emergency plan on November 1, 2001, which was within the required 2-year interval. However, due to the ongoing national security threat in the United States, and the response, recovery, and other offsite agency activities associated with the September 11, 2001, terrorist attacks, the licensee has decided to postpone the exercise. The licensee does not plan to conduct the full-participation exercise until after the 2-year interval has expired.

Environmental Impacts of the Proposed Action

The NRC has completed its evaluation of the proposed action and concludes that the proposed action involves an administrative activity unrelated to plant operations.

The proposed action will not significantly increase the probability or consequences of accidents, no changes are being made in the types of any effluents that may be released offsite, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the Commission concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any different resource than those previously considered in the Final Environmental Statement for the Limerick Generating Station, Units 1 and 2, dated April 1984.

Agencies and Persons Consulted

On November 13, 2001, the staff consulted with the Pennsylvania State official, Dennis Dyckman of the Pennsylvania Department of Environment and Natural Resources, regarding the environmental impact of the proposed action. The State official had no comments. In addition, the licensee notified the Federal Emergency Management Agency and the Pennsylvania Emergency Management Agency, who indicated support for rescheduling the exercise.

Finding of No Significant Impact

On the basis of the environmental assessment, the NRC concludes that the proposed action will not have a significant effect on the quality of the human environment. Accordingly, the NRC has determined not to prepare an environmental impact statement for the proposed action.

Further details with respect to the proposed action can be found in the licensee's letter dated October 16, 2001. Documents may be examined, and/or copied for a fee, at the NRC's Public Document Room (PDR), located at One White Flint North, 11555 Rockville Pike (first floor), Rockville, Maryland. Publicly available records will be accessible electronically from the ADAMS Public Library component on the NRC Web site, http://www.nrc.gov (the Electronic Reading Room). Persons who do not have access to ADAMS or who encounter problems in accessing the documents located in ADAMS, should contact the NRC PDR Reference staff by telephone at 1-800-397-4209, or 301-415-4737, or by e-mail at pdr@nrc.gov.

Dated at Rockville, Maryland, this 30th day of November 2001.
For the Nuclear Regulatory Commission.
Christopher Gratton,
Sr. Project Manager, Section 2, Project Directorate 1, Division of Licensing Project Management, Office of Nuclear Reactor Regulation.

[FR Doc. 01-30238 Filed 12-5-01; 8:45 am]

BILLING CODE 7590-01-P